DEPARTMENT OF THE TREASURY

Customs Service

19 CFR PART 12

[T.D. 02—30]

RIN 1515-AD12

Extension of Import Restrictions Imposed on Archaeological and Ethnological Materials From Peru; Correction

AGENCY: Customs Service, Treasury.

ACTION: Final rule; correction.

SUMMARY: This document contains corrections to the final rule (T.D. 02-30) that was published in the Federal Register on June 6, 2002. The final rule extended for a period of five years from June 9, 2002, the import restrictions that were already in place for certain archaeological and ethnological materials from Peru. This document corrects the Internet web site address for accessing the Designated List of Archaeological and Ethnological Materials from Peru to which the import restrictions apply and an accompanying image database. The document also clarifies that the beginning date of the five year extension is June 9, 2002.

EFFECTIVE DATE: June 9, 2002.

FOR FURTHER INFORMATION CONTACT: (Regulatory Aspects) Joseph Howard, Intellectual Property Rights Branch (202) 927-2336; (Operational Aspects) Al Morawski, Trade Operations (202) 927-0402.

SUPPLEMENTARY INFORMATION:

Background

A final rule document, published as T.D. 02-30 in the Federal Register (67 FR 38877) on Thursday June 6, 2002, extended for a period of five years from June 9, 2002, the import restrictions that were already in place for certain archaeological and ethnological materials from Peru. The final rule amended section 12.104g(a), Customs Regulations (19 CFR 12.104g(a)).

This document corrects an error in the Background section of the document regarding the Internet web site address that was set forth to enable the public to access the Designated List of Archaeological and Ethnological Materials from Peru, which describes the materials covered by the import restrictions, and an accompanying image database. The document also clarifies that the beginning date of the five year extension is June 9, 2002, by changing the effective date of the regulation to June 9, 2002.

Corrections

In rule FR Doc. 02-14219, published on June 6, 2002 (67 FR 38877), make the following corrections:

1. On page 38877, in the first column, the Effective Date section should read as follows:

EFFECTIVE DATE: June 9, 2002.

2. On page 38877, in the third column, the first full sentence should read as follows:

The list and accompanying image database may also be found at the following Internet web site address:

http://exchanges.state.gov/culprop.

Dated: June 24, 2002.
Sandra L. Bell,
Acting Assistant Commissioner, Office of Regulations and Rulings.

[FR Doc. 02-16235 Filed 6-26-02; 8:45 am]

BILLING CODE 4820-02-P